DEPARTMENT OF THE INTERIOR

Fish and Wildlife Service

50 CFR Part 14

RIN 1018-AT69

Regulations To Implement the Captive Wildlife Safety Act

AGENCY: Fish and Wildlife Service, Interior.

ACTION: Proposed rule; reminder.

SUMMARY: We, the U.S. Fish and Wildlife Service, publish a followup document to our proposed rule to implement the Captive Wildlife Safety Act (CWSA), which published in the Federal Register on January 31, 2006. We want to remind the public that the addresses for comments on the proposed rule are different from the addresses for comments on the information collection aspects of the proposed rule.

DATES: Submit comments on our proposed rule or on the proposed information collection in our proposed rule by March 2, 2006.

ADDRESSES: See SUPPLEMENTARY INFORMATION.

FOR FURTHER INFORMATION CONTACT: Kevin Garlick, Special Agent in Charge, Branch of Investigations, U.S. Fish and Wildlife Service, OLE, at (703) 358-1949.

SUPPLEMENTARY INFORMATION: We published a proposed rule to implement the Captive Wildlife Safety Act (CWSA) in the Federal Register on January 31, 2006 (71 FR 5041). With this followup document, we want to draw the public's attention to the fact that the addresses we provided in 71 FR 5041 for comments on the proposed rule are different from the addresses we provided for comments on the information collection contained in the proposed rule. We are not changing any of the addresses or providing any new ones, just reminding the public which addresses are for which purposes.

The following are ways to submit your comments. Identify all your comments and materials by RIN 1018-AT69.

Submitting Comments on the Proposed Rule

You may submit comments and materials on our proposed rule (71 FR 5041), but not on the information collection aspects, by any one of the following methods:

1. U.S. mail: Special Agent in Charge, Branch of Investigations, U.S. Fish and Wildlife Service, Office of Law Enforcement (OLE), 4501 North Fairfax Drive, MS 3000, Arlington, Virginia 22203.

2. Fax: Special Agent in Charge, Branch of Investigations, OLE, 703-358-2271.

3. Hand-delivery: U.S. Fish and Wildlife Service, OLE, 4501 North Fairfax Drive, Suite 3000, Arlington, VA (this option is available between the hours of 8 a.m. and 4 p.m., Monday through Friday).

4. Internet: Go to the Federal eRulemaking portal at: http://www.regulations.gov and follow the instructions for submitting comments for RIN 1018-AT69.

If you have already submitted your comments on the proposed rule by one of the above methods, they have become part of the administrative record for this rulemaking action and you do not need to resubmit them.

Submitting Comments on the Information Collection

Send any comments on the information collection contained in our proposed rule (not the proposed rule in general) to both of the following entities:

1. Desk Officer for the Department of the Interior, OMB-OIRA, Office of Management and Budget (OMB). Use one of the following methods:

(a) Fax: Desk Officer for the Department of the Interior, OMB-OIRA, 202-95-6566.

(b) E-mail: OIRA_DOCKET@OMB.eop.gov.

2. Hope Grey, Information Collection Clearance Officer, U.S. Fish and Wildlife Service. Use one of the following methods:

(a) U.S. Mail: Hope Grey, Information Collection Clearance Officer, U.S. Fish and Wildlife Service, MS 222-ARLSQ, 4401 North Fairfax Drive, Arlington, VA 22203.

(b) Fax: Hope Grey, Information Collection Clearance Officer, US-FWS, 703-358-2269.

(c) E-mail: hope_grey@fws.gov.

Dated: February 16, 2006.
Sara Prigan,
Federal Register Liaison, Fish and Wildlife Service.

[FR Doc. 06-1674 Filed 2-17-06; 12:45 pm]

BILLING CODE 4310-55-P